INTERNATIONAL TRADE COMMISSION

Notice of Appointment of Individuals To Serve as Members of Performance Review Board

AGENCY: United States International Trade Commission.

ACTION: Appointment of individuals to serve as members of Performance Review Board.

DATES: Effective August 13, 2004.

FOR FURTHER INFORMATION CONTACT: Jeri L. Buchholz, Director of Human Resources, U.S. International Trade Commission (202) 205-2651.

SUPPLEMENTARY INFORMATION: The Chairman of the U.S. International Trade Commission has appointed the following individuals to serve on the Commission's Performance Review Board (PRB):

Chairman of PRB: Vice-Chairman Deanna Tanner Okun.

Member: Commissioner Jennifer A. Hillman.

Member: Commissioner Charlotte R. Lane.

Member: Commissioner Marcia E. Miller.

Member: Commissioner Daniel Pearson.

Member: Robert G. Carpenter.

Member: Robert B. Koopman.

Member: Karen Laney-Cummings.

Member: Lynn I. Levine.

Member: Stephen A. McLaughlin.

Member: Robert A. Rogowsky.

Member: Eugene A. Rosengarden.

Member: Lyn M. Schlitt.

This notice is published in the Federal Register pursuant to the requirement of 5 U.S.C. 4314(c)(4). Hearing-impaired individuals are advised that information on this matter can be obtained by contacting our TDD terminal on (202) 205-1810.

Issued: August 18, 2004.
By order of the Chairman.
Marilyn R. Abbott,
Secretary to the Commission.

[FR Doc. 04-19282 Filed 8-23-04; 8:45 am]

BILLING CODE 7020-02-P